DEPARTMENT OF COMMERCE

Foreign-Trade Zones Board

[B-53-2015]

Application for Additional Production Authority; The Coleman Company, Inc.; Subzone 119I; (Textile-Based Personal Flotation Devices) Sauk Rapids, Minnesota

An application has been submitted to the Foreign-Trade Zones (FTZ) Board by The Coleman Company, Inc. (Coleman), operator of Subzone 119I, requesting additional production authority for its facility located in Sauk Rapids, Minnesota. The application conforming to the requirements of the regulations of the FTZ Board (15 CFR 400.23) was docketed on August 12, 2015.

The Coleman facility (252 employees) is located at 1100 Stearns Drive, Sauk Rapids, Minnesota. The facility is used for the production of personal flotation devices and cushions constructed with textile fabrics. Coleman requested FTZ production authority in a notification proceeding (15 CFR 400.22) in 2014 (see 79 FR 18509-18510, 4-2-2014; Doc. B-31-2014). After an initial review, the requested production authority was approved subject to a restriction that precludes inverted tariff benefits on foreign textile fabrics and cases/bags of textile materials used in production of personal flotation devices and cushions for U.S. consumption.

The pending application seeks to remove the above-mentioned restriction and to add several new components to Coleman's scope of authority by requesting authority for Coleman to choose the duty rate during customs entry procedures that applies to personal flotation devices (4.5%, 7.0%) and flotation cushions (6.0%) for the foreign status inputs noted below. Customs duties also could possibly be deferred or reduced on foreign status production equipment. The request indicates that the savings from FTZ procedures would help improve the plant's international competitiveness.

Components and materials sourced from abroad (representing 16% of the value of the finished products) include: Water soluble sensing elements; plastic carry bags; nylon and polyester woven fabrics; webbing of man-made fibers; neoprene fabrics; and, knit polyester fleece fabrics (duty rate ranges from 5 to 20%).

In accordance with the FTZ Board's regulations, Pierre Duy of the FTZ Staff is designated examiner to evaluate and analyze the facts and information presented in the application and case record and to report findings and recommendations to the FTZ Board.

Public comment is invited from interested parties. Submissions shall be addressed to the FTZ Board's Executive Secretary at the address below. The closing period for their receipt is October 19, 2015. Rebuttal comments in response to material submitted during the foregoing period may be submitted during the subsequent 15-day period to November 2, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov (202) 482-1378.

Dated: August 12, 2015.
Andrew McGilvray,
Executive Secretary.

[FR Doc. 2015-20385 Filed 8-17-15; 8:45 am]

BILLING CODE 3510-DS-P